SMALL BUSINESS ADMINISTRATION

[License No. 01/01-0433]

Gemini Investor VI, L.P.; Notice Seeking Exemption Under Section 312 of the Small Business Investment Act, Conflicts of Interest

Notice is hereby given that Gemini Investor VI, L.P. 20 William Street, Suite 250, Wellesley, MA 02481, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Gemini Investor VI, L.P. proposes to provide equity security financing to Hemi Purchaser, LLD Holding 1911 11th Street, Suite 400, Boulder, CO 80301.

The financing is brought within the purview of § 107.730(a)(1) of the Regulations because Gemini Investor IV, L.P., an Associate of Gemini Investor VI, L.P. own more than ten percent of the preceding entity Vision Appraisal Technology Holdings, LLC and therefore this transaction is considered Financing an Associate requiring prior SBA approval.

Notice is hereby given that any interested person may submit written comments on this transaction within fifteen days of the date of this publication to the Associate Administrator, Office of Investment and Innovation, U.S. Small Business Administration, 409 Third Street SW, Washington, DC 20416.

Thomas Morris,
Acting Associate Administrator Director, Office of Liquidation, Office of Investment and Innovation.

[FR Doc. 2021-09877 Filed 5-10-21; 8:45 am]

BILLING CODE P